FEDERAL COMMUNICATIONS COMMISSION

[CC Docket Nos. 94-1, 96-262, DA 06-1446]

Reconsideration of Price Cap Performance Review for Local Exchange Carriers

AGENCY: Federal Communications Commission.

ACTION: Notice, termination of proceeding.

SUMMARY: This document is a notification of final termination of the petitions for reconsideration of a 1997 Commission order, which established a 6.5 percent productivity-based X-factor and eliminated the sharing requirements in the Commission's price cap rules. The petitions for reconsideration have been withdrawn by the petitioners. No oppositions to the prior notice of termination were received; therefore, interested parties are hereby notified that the proceeding has been terminated.

DATES: This proceeding was terminated effective June 30, 2006.

FOR FURTHER INFORMATION CONTACT: Jennifer McKee, Wireline Competition Bureau, Pricing Policy Division, (202) 418-1530.

SUPPLEMENTARY INFORMATION: On May 19, 2006, the Wireline Competition Bureau's Pricing Policy Division issued a Public Notice in the above-listed proceeding stating that the proceeding would be terminated effective 30 days after publication of the Public Notice in the Federal Register, unless the Bureau received an opposition to the termination before that date. The notice was published in the Federal Register on May 31, 2006. 71 FR 30925, May 31, 2006. The Bureau did not receive any oppositions to the termination of this proceeding within 30 days of Federal Register publication of the notice; therefore, the above-listed proceeding was terminated as of June 30, 2006.

Authority: 47 U.S.C. 152, 153, 154, 155, 44 FR 18501, 67 FR 13223, 47 CFR 0.291, 1.749.

Federal Communications Commission.
Thomas J. Navin,
Chief, Wireline Competition Bureau.

[FR Doc. E6-11900 Filed 7-25-06; 8:45 am]

BILLING CODE 6712-01-P